DEPARTMENT OF ENERGY

Federal Energy Regulatory Commission

[Docket No. EC05-20-000, et al.]

PPL Sundance Energy, LLC, et al.; Electric Rate and Corporate Filings

February 18, 2005.

The following filings have been made with the Commission. The filings are listed in ascending order within each docket classification.

1. PPL Sundance Energy, LLC, PPL Energy Plus, LLC, Arizona Public Service Company

[Docket No. EC05-20-000]

Take notice that on February 11, 2005, PPL Sundance Energy, LLC (PPL Sundance), PPL Energy Plus, LLC and Arizona Public Service Company (APS) (collectively, Applicants) filed with the Federal Energy Regulatory Commission a response to a deficiency letter issued on January 28, 2005, by Jamie L. Simler, Director, Division of Tariffs and Market Development—West, in connection with a section 203 application filed for authorization to acquire a 450 megawatt generating facility owned by PPL Sundance. Applicants request confidential treatment of certain supporting data contained in the filing.

Comment Date: 5 p.m. eastern time on March 2, 2005.

2. Duke Power, a Division of Duke Power Corporation

[Docket Nos. ER96-110-013 and EL05-4-000]

Take notice that on February 14, 2005, Duke Power, a division of Duke Energy Corporation (Duke Power) submitted a filing in compliance with the Commission's order issued December 15, 2004, in Docket No. ER96-110-010, et al., 109 FERC ¶ 61,270.

Duke Power states that copies of the filing were served on parties on the official service list in the above-captioned proceed as well as its State commissions.

Comment Date: 5 p.m. eastern time on March 4, 2005.

3. Idaho Power Company

[Docket No. ER97-1481-007]

Take notice that on February 17, 2005, Idaho Power (IPC) submitted an amendment to its January 19, 2005, filing regarding IPC's revised generation market power screen analysis.

Comment Date: 5 p.m. eastern time on February 25, 2005.

4. PacifiCorp PPM Energy, Inc.

[Docket No. ER97-2801-005 and ER03-478-004]

Take notice that on February 14, 2005, PacifiCorp and PPM Energy, Inc. tendered for filing an updated market power analysis.

Comment Date: 5 p.m. eastern time on March 4, 2005.

5. Pacific Gas and Electric Company

[Docket No. ER03-1091-007]

Take notice that on February 11, 2005, Pacific Gas and Electric Company (PG&E) tendered for filing an amendment to its December 30, 2004, compliance filing regarding a Generator Special Facilities Agreement and Generator Interconnection Agreement between PG&E and Duke Energy Morro Bay LLC (Duke Morro Bay).

PG&E states that copies of this filing have been served upon Duke Morro Bay, the California Independent System Operator Corporation and the California Public Utilities Commission.

Comment Date: 5 p.m. eastern time on March 4, 2005.

6. The Detroit Edison Company

[Docket Nos. ER04-14-006 and EL04-29-006]

Take notice that on February 11, 2005, The Detroit Edison Company (Detroit Edison) filed an amendment to its Ancillary Services Tariff, First Revised Volume No. 5, filed on December 2, 2004 to repaginate the tariff sheets in compliance with Order No. 614.

Comment Date: 5 p.m. eastern time on March 4, 2005.

7. California Independent System Operator Corporation

[Docket No. ER05-277-001]

Take notice that on February 14, 2005, the California Independent System Operator Corporation (ISO) submitted a filing in compliance with the Commission's order issued January 28, 2005, in Docket No. ER05-277-000, 110 FERC ¶ 61,082.

The ISO states that the filing has been served on all parties on the official service list for this proceeding. In addition, the ISO states that it has posting the filing on the ISO home page.

Comment Date: 5 p.m. eastern time on March 7, 2005.

8. California Independent System Operator Corporation

[Docket No. ER05-416-001]

Take notice that, on February 11, 2005, the California Independent System Operator Corporation (ISO) submitted an errata to its filing of December 30, 2004, in Docket No. ER05-416-000 regarding the ISO's revised transmission access charge rates effective January 1, 2005.

The ISO states that this filing has been served upon the Public Utilities Commission of the State of California, the California Energy Commission, the California Electricity Oversight Board, the participating transmission owners, and upon all parties with effective scheduling coordinator service agreements under the ISO Tariff. In addition, the ISO indicates that it is posting the filing on the ISO home page.

Comment Date: 5 p.m. eastern time on March 4, 2005.

9. Pacific Gas and Electric Company

[Docket No. ER05-565-000]

Take notice that on February 11, 2005, Pacific Gas and Electric Company (PG&E) tendered for filing an amended Appendix A to the interconnection agreement (IA) between PG&E and Silicon Valley Power (SVP) to update the point of interconnection information. PG&E states that the IA is on file with the Commission as Service Agreement No. 20, PG&E FERC Electric Tariff, Sixth Revised Volume No. 5.

PG&E states that copies of this filing were served upon SVP, the California Independent System Operator Corporation, and the California Public Utilities Commission.

Comment Date: 5 p.m. eastern time on March 4, 2005.

10. Florida Power & Light Company

[Docket No. ER05-568-000]

Take notice that on February 11, 2005, Florida Power & Light Company (FPL) submitted revised tariff sheets in compliance with Order No. 2003-B issued December 20, 2004, in Docket No. RM02-1-005, 109 FERC ¶ 61,287 (2004).

Comment Date: 5 p.m. eastern time on March 4, 2005.

11. Indianapolis Power & Light, Co.

[Docket No. ER05-569-000]

Take notice that on February 11, 2005, Indianapolis Power & Light Co. (IPL) tendered for filing an executed amended and restated Interconnection, Operation and Maintenance Agreement (agreement) between IPL and DTE Georgetown, LP (DTE). IPL requests an effective date of December 17, 2004.

IPL states that the filing has been served on DTE and the Indiana Utility Regulatory Commission.

Comment Date: 5 p.m. eastern time on March 4, 2005.

12. Hot Spring Power Company, LP

[Docket No. ER05-570-000]

Take notice that on February 11, 2005, Hot Spring Power Company, LP (Hot Spring) tendered for filing a request for authorization to make wholesale sales of electric energy, capacity and ancillary services at market-based rates, to reassign transmission capacity, and to resell firm transmission rights. Hot Spring states that it proposes to own and operate a 720 MW gas-fired electric power plant near Malvern, Arkansas.

Comment Date: 5 p.m. eastern time on March 4, 2005.

13. MidAmerican Energy Company

[Docket No. ER05-571-000]

Take notice that on February 14, 2005, MidAmerican Energy Company (MidAmerican) submitted changes to its Open Access Transmission Tariff (OATT) in compliance with Order No. 2003-B issued December 20, 2004, in Docket No. RM02-1-005, 109 FERC ¶ 61,287 (2004) and to remove provisions related to transmission service for two retail access pilot programs in the state of Iowa known as Market Access Service and Extended Market Access Service.

MidAmerican states that copies of the filing have been served on the Iowa Utilities Board, the Illinois Commerce Commission, the South Dakota Public Utilities Commission and all customers having service agreement with MidAmerican under the OATT.

Comment Date: 5 p.m. eastern time on March 7, 2005.

14. Niagara Mohawk Power Corporation

[Docket No. ER05-572-000]

Take notice that on February 14, 2005, Niagara Mohawk Power Corporation, a National Grid Company, (Niagara Mohawk) submitted a Tri Lakes Agreement and a Conversion Agreement between Niagara Mohawk, the Power Authority of the State of New York, the Village of Tupper Lake, New York, and the Village of Lake Placid, New York.

Comment Date: 5 p.m. eastern time on March 7, 2005.

15. Pacific Gas and Electric Company

[Docket No. ER05-573-000]

Take notice that on February 14, 2005, as supplemented on February 17, 2005, Pacific Gas and Electric Company (PG&E) tendered for filing an amended generator special facilities agreement and generator interconnection agreement between PG&E and Duke Energy Morro Bay LLC (Duke Morro Bay).

PG&E states that copies of this filing have been served on Duke Morro Bay, the California Independent System Operator Corporation and the California Public Utilities Commission.

Comment Date: 5 p.m. eastern time on March 7, 2005.

16. Public Service Company of New Mexico

[Docket No. ER05-574-000]

Take notice that on February 14, 2005, Public Service Company of New Mexico (PNM) tendered for filing revisions to its Open Access Transmission Tariff, FERC Electric Tariff, Second Revised Volume No. 4, to incorporate the ministerial changes with respect to the Large Generator Interconnection Procedures and the Large Generator Interconnection Agreement issued December 20, 2004, in Order No. 2003-B. PJM requests an effective date of January 19, 2005.

PNM states that copies of the filing have been sent to all PNM large generation customers, to all entities that have pending large generation interconnection requests with PNM, the New Mexico Public Regulation Commission and the New Mexico Attorney General.

Comment Date: 5 p.m. eastern time on March 7, 2005.

17. Southwest Power Pool, Inc.

[Docket No. ER05-576-000]

Take notice that on February 14, 2005, as supplemented February 15, 2005, Southwest Power Pool, Inc. (SPP) submitted for filing an Agreement for Wholesale Distribution Services Charges between Kansas Electric Power Cooperative, Inc. (KEPCo) and The Empire District Electric Company (Empire). SPP requests an effective date of June 1, 2004.

SPP states that copies of the filing have been served on KEPCO and Empire.

Comment Date: 5 p.m. eastern time on March 7, 2005.

18. ISO New England Inc., et al.

[Docket Nos. RT04-2-012 and ER04-116-012]

Take notice that, on February 11, 2005, ISO New England Inc., (ISO) and the New England transmission owners (consisting of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; Vermont Electric Power Company, Inc.; Fitchburg Gas and Electric Light Company; and Unitil Energy Systems, Inc.) submitted a report in compliance with the Commission order issued November 3, 2004, 109 FERC ¶ 61,147 (2004).

ISO states that copies of the filing have been served on all parties to this proceeding, on all Governance Participants (electronically), non-Participant Transmission Customers, and the governors and regulatory agencies of the six New England states.

Comment Date: 5 p.m. eastern time on March 4, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-788 Filed 2-25-05; 8:45 am]

BILLING CODE 6717-01-P